DEPARTMENT OF STATE

[Public Notice #: 3413]

U.S. Advisory Commission on Public Diplomacy; Notice of Meeting

The U.S. Advisory Commission on Public Diplomacy, reauthorized pursuant to Public Law 106-113 (H.R. 3194, Consolidated Appropriations Act, 2000), will meet on Friday, October 20, 2000 in Room 600, 301 4th St., SW, Washington, D.C. from 10:30 a.m. to 12:30 p.m.

The Commission will discuss the release of its report on the consolidation of USIA into the State Department and the effectiveness of U.S. public diplomacy in the former Soviet Union.

Members of the general public may attend the meeting, though attendance of public members will be limited to the seating available. Access to the building is controlled, and individual building passes are required for all attendees. Persons who plan to attend should contact David J. Kramer, Executive Director, at (202) 619-4463.

September 29, 2000.
David J. Kramer,
Executive Director, U.S. Advisory Commission on Public Diplomacy, Department of State.

[FR Doc. 00-25781 Filed 10-4-00; 8:45 am]

BILLING CODE 4710-11-P